DEPARTMENT OF COMMERCE

National Oceanic and Atmospheric Administration

RIN 0648-XE477

SAW-SARC 64 Public Meeting

AGENCY: National Marine Fisheries Service (NMFS), National Oceanic and Atmospheric Administration (NOAA), Commerce.

ACTION: Notice of public meeting.

SUMMARY: NMFS and the Northeast Regional Stock Assessment Workshop (SAW) will convene the 64th SAW Stock Assessment Review Committee for the purpose of reviewing the stock assessment of Atlantic mackerel. The Northeast Regional SAW is a formal scientific peer-review process for evaluating and presenting stock assessment results to managers for fish stocks in the offshore U.S. waters of the northwest Atlantic. Assessments are prepared by SAW working groups and reviewed by an independent panel of stock assessment experts called the Stock Assessment Review Committee, or SARC. The public is invited to attend the presentations and discussions between the review panel and the scientists who have participated in the stock assessment process.

DATES: The public portion of the Stock Assessment Review Committee Meeting will be held from November 28, 2017-November 30, 2017. The meeting will commence on November 28, 2017 at 10 a.m. Eastern Standard Time. Please see SUPPLEMENTARY INFORMATION for the daily meeting agenda.

ADDRESSES: The meeting will be held in the S.H. Clark Conference Room in the Aquarium Building of the National Marine Fisheries Service, Northeast Fisheries Science Center (NEFSC), 166 Water Street, Woods Hole, MA 02543.

FOR FURTHER INFORMATION CONTACT: Sheena Steiner, 508-495-2177; email: sheena.steiner@noaa.gov; or, James Weinberg, 508-495-2352; email: james.weinberg@noaa.gov.

SUPPLEMENTARY INFORMATION: For further information, please visit the NEFSC Web site at http://www.nefsc.noaa.gov. For additional information about the SARC meeting and the stock assessment review of Atlantic mackerel, please visit the NMFS/NEFSC SAW Web page at http://www.nefsc.noaa.gov/saw/.

DAILY MEETING AGENDA—SAW/SARC 64 Benchmark Stock Assessment for Atlantic mackerel. (Subject to Change; All times are approximate and may be changed at the discretion of the SARC Chair)

Tuesday, November 28, 2017

10 a.m.-10:30 a.m | Welcome Introductions | James Weinberg, SAW Chair.
10:30 a.m.-12:30 p.m | Atlantic mackerel (AM) Assessment Presentation | Kiersten Curti.
12:30 p.m.-1:30 p.m | Lunch
1:30 p.m.-3:30 p.m | AM Presentation (cont.) | Kiersten Curti.
3:30 p.m.-3:45 p.m | Break
3:45 p.m.-5:45 p.m | AM SARC Discussion | John Boreman, SARC Chair.
5:45 p.m.-6 p.m | Public Comment Period

Wednesday, November 29, 2017

9:00 a.m.-10:45 a.m | Revisit with AM presenters | John Boreman.
10:45 a.m.-11:00 a.m | Break
11:00 a.m.-11:45 a.m | Revisit with AM presenters | John Boreman.
11:45 a.m.-12:00 p.m | Public Comment
12:00-1:15 p.m | Lunch
1:15 p.m.-4:00 p.m | Review/Edit Assessment Summary Report | John Boreman.
4:00 p.m.-4:15 p.m | Break
4:15 p.m.-5:00 p.m | SARC Report Writing

Thursday, November 30, 2017

9 a.m.-5 p.m | SARC Report Writing. |

The meeting is open to the public; however, during the “SARC Report Writing” sessions on November 29th and 30th, the public should not engage in discussion with the SARC.

Special Accommodations

This meeting is physically accessible to people with disabilities. Special requests should be directed to Sheena Steiner at the NEFSC, 508-495-2177, at least 5 days prior to the meeting date.

Dated: November 17, 2017.
Emily H. Menashes,
Acting Director, Office of Sustainable Fisheries, National Marine Fisheries Service.

[FR Doc. 2017-25334 Filed 11-22-17; 8:45 am]

BILLING CODE 3510-22-P